DEPARTMENT OF ENERGY

Federal Energy Regulatory Commission

Combined Notice of Filings

Take notice that the Commission has received the following Natural Gas and Oil Pipeline Rate and Refund Report filings:

Filings Instituting Proceedings

Docket Numbers: RP23-989-000.

Applicants: TransColorado Gas Transmission Company LLC.

Description: § 4(d) Rate Filing: TC Quarterly FL&U Update August 2023 to be effective 10/1/2023.

Filed Date: 8/30/23.

Accession Number: 20230830-5121.

Comment Date: 5 p.m. ET 9/11/23.

Docket Numbers: RP23-990-000.

Applicants: Enable Mississippi River Transmission, LLC.

Description: § 4(d) Rate Filing: Amended NRA—Summit Utilities to be effective 9/1/2023.

Filed Date: 8/30/23.

Accession Number: 20230830-5125.

Comment Date: 5 p.m. ET 9/11/23.

Docket Numbers: RP23-991-000.

Applicants: Viking Gas Transmission Company.

Description: § 4(d) Rate Filing: Implementation of Electric Power Cost Recovery Adjustment to be effective 11/1/2023.

Filed Date: 8/31/23.

Accession Number: 20230831-5000.

Comment Date: 5 p.m. ET 9/12/23.

Docket Numbers: RP23-992-000.

Applicants: Alliance Pipeline L.P.

Description: § 4(d) Rate Filing: Negotiated Rates—Various Sept 1 2023 Releases to be effective 9/1/2023.

Filed Date: 8/31/23.

Accession Number: 20230831-5007.

Comment Date: 5 p.m. ET 9/12/23.

Docket Numbers: RP23-993-000.

Applicants: Carolina Gas Transmission, LLC.

Description: Compliance filing: CGT—2023 Penalty Revenue Crediting Report to be effective N/A.

Filed Date: 8/31/23.

Accession Number: 20230831-5008.

Comment Date: 5 p.m. ET 9/12/23.

Docket Numbers: RP23-994-000.

Applicants: Cove Point LNG, LP.

Description: § 4(d) Rate Filing: Cove Point—August 31, 2023 Administrative Changes to be effective 10/1/2023.

Filed Date: 8/31/23.

Accession Number: 20230831-5009.

Comment Date: 5 pm ET 9/12/23.

Docket Numbers: RP23-995-000.

Applicants: Cove Point LNG, LP.

Description: Compliance filing: Cove Point—2023 Revenue Crediting Report to be effective N/A.

Filed Date:8/31/23.

Accession Number: 20230831-5010.

Comment Date: 5 p.m. ET 9/12/23.

Docket Numbers: RP23-996-000.

Applicants: Eastern Gas Transmission and Storage, Inc.

Description: § 4(d) Rate Filing: EGTS—August 31, 2023 Negotiated Rate Agreements to be effective 9/1/2023.

Filed Date: 8/31/23.

Accession Number: 20230831-5011.

Comment Date: 5 p.m. ET 9/12/23.

Docket Numbers: RP23-998-000.

Applicants: Texas Eastern Transmission, LP.

Description: § 4(d) Rate Filing: Negotiated Rates—Various Releases eff 9-1-23 to be effective 9/1/2023.

Filed Date: 8/31/23.

Accession Number: 20230831-5012.

Comment Date: 5 p.m. ET 9/12/23.

Docket Numbers: RP23-999-000.

Applicants: Northwest Pipeline LLC.

Description: § 4(d) Rate Filing: Non-Conforming Service Agreement—Darigold, Inc. to be effective 10/1/2023.

Filed Date: 8/31/23.

Accession Number:20230831-5048.

Comment Date:5 p.m. ET 9/12/23.

Docket Numbers: RP23-1000-000.

Applicants: Kern River Gas Transmission Company.

Description: § 4(d) Rate Filing: HDPP TSA Amendment to be effective 9/1/2023.

Filed Date: 8/31/23.

Accession Number:20230831-5055.

Comment Date: 5 p.m. ET 9/12/23.

Docket Numbers: RP23-1001-000.

Applicants: Colorado Interstate Gas Company, L.L.C.

Description:§ 4(d) Rate Filing: Annual Fuel and LU True-up Filing Aug 2023 to be effective 10/1/2023.

Filed Date: 8/31/23.

Accession Number:20230831-5057.

Comment Date: 5 p.m. ET 9/12/23.

Docket Numbers: RP23-1002-000.

Applicants: WBI Energy Transmission, Inc.

Description: § 4(d) Rate Filing: 2023 Semi-Annual Fuel & Electric Power Reimbursement Adjustment to be effective 10/1/2023.

Filed Date: 8/31/23.

Accession Number: 20230831-5061.

Comment Date: 5 p.m. ET 9/12/23.

Docket Numbers: RP23-1003-000.

Applicants: Transcontinental Gas Pipe Line Company, LLC.

Description: § 4(d) Rate Filing: Negotiated Rates—Cherokee AGL—Replacement Shippers—Sep 2023 to be effective 9/1/2023.

Filed Date:8/31/23.

Accession Number: 20230831-5062.

Comment Date:5 p.m. ET 9/12/23.

Docket Numbers: RP23-1004-000.

Applicants: Columbia Gulf Transmission, LLC.

Description: Compliance filing: CGT Cashout Report 2023 to be effective N/A.

Filed Date: 8/31/23.

Accession Number: 20230831-5064.

Comment Date:5 p.m. ET 9/12/23.

Docket Numbers:RP23-1005-000.

Applicants: Algonquin Gas Transmission, LLC.

Description: § 4(d) Rate Filing: Negotiated Rates—Various Releases eff 9-1-23 to be effective 9/1/2023.

Filed Date: 8/31/23.

Accession Number: 20230831-5068.

Comment Date: 5 p.m. ET 9/12/23.

Docket Numbers: RP23-1006-000.

Applicants:MoGas Pipeline LLC.

Description: § 4(d) Rate Filing: MoGas Pipeline Annual Fuel Tracker Filing to be effective 10/1/2023.

Filed Date: 8/31/23.

Accession Number: 20230831-5075.

Comment Date: 5 p.m. ET 9/12/23.

Docket Numbers: RP23-1007-000.

Applicants: Equitrans, L.P.

Description: § 4(d) Rate Filing: Remove Expired Negotiated Rate Agreements—9/1/2023 to be effective 9/1/2023.

Filed Date:8/31/23.

Accession Number: 20230831-5102.

Comment Date: 5 p.m. ET 9/12/23.

Docket Numbers: RP23-1008-000.

Applicants:Florida Gas Transmission Company, LLC.

Description: § 4(d) Rate Filing: Fuel Filing on 8-31-23 to be effective 10/1/2023.

Filed Date:8/31/23.

Accession Number:20230831-5112.

Comment Date: 5 p.m. ET 9/12/23.

Docket Numbers: RP23-1009-000.

Applicants: Northern Natural Gas Company.

Description: § 4(d) Rate Filing: 20230831 Negotiated Rate to be effective 9/1/2023.

Filed Date:8/31/23.

Accession Number:20230831-5114.

Comment Date: 5 p.m. ET 9/12/23.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For other information, call (866) 208-3676 (toll free). For TTY, call (202) 502-8659. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: August 31, 2023.
Debbie-Anne A. Reese,
Deputy Secretary.

[FR Doc. 2023-19301 Filed 9-6-23; 8:45 am]

BILLING CODE 6717-01-P